DEPARTMENT OF HEALTH AND HUMAN SERVICES

Centers for Disease Control and Prevention

[Program Announcement 03025]

Building Inter-Country Collaboration and Cooperation for Epidemiology and Surveillance Training in Central America, the Dominican Republic, and Haiti; Notice of Availability of Funds

A. Authority and Catalog of Federal Domestic Assistance Number

This program is authorized under sections 301 and 307 of the Public Health Service Act, (42 U.S.C. sections 242l), as amended, and section 104 of the Foreign Assistance Act of 1961 (22 U.S.C. 2151b). The Catalog of Federal Domestic Assistance number is 93.283.

B. Purpose

The Centers for Disease Control and Prevention (CDC) announces the availability of fiscal year (FY) 2003 funds for a cooperative agreement program for Building Inter-Country Collaboration and Cooperation for Epidemiology and Surveillance Training in Central America, the Dominican Republic, and Haiti. This program addresses the “Healthy People 2010” focus area Public Health Infrastructure.

The purpose of this program is to strengthen inter-country activities and cooperation in the development of surveillance and field epidemiology in Central America, the Dominican Republic, and Haiti.

Measurable outcomes of the program will be in alignment with one or more of the following performance goals for the Epidemiology Program Office (EPO): Maximize the distribution and use of scientific information and prevention messages through modern communication technology; efficiently respond to the needs of its public health partners through the provision of epidemiologic assistance; and implement accessible training programs to provide an effective work force for staffing state and local health departments, laboratories, and ministries of health in developing countries.

C. Eligible Applicants

Applications may be submitted by public nonprofit organizations and private nonprofit organizations.

Note: Title 2 of the United States Code section 1611 states that an organization described in section 501(c)(4) of the Internal Revenue Code that engages in lobbying activities is not eligible to receive Federal funds constituting an award, grant or loan.

D. Funding

Availability of Funds

Approximately $130,000 is available in FY 2003 to fund one award. It is expected that the award will begin on or about June 30, 2003, and will be made for a 12-month budget period within a project period of up to three years. Funding estimates may change.

Continuation awards within an approved project period will be made on the basis of satisfactory progress as evidenced by required reports and the availability of funds.

Direct Assistance

No direct assistance will be provided.

Use of Funds

1. All requests for funds contained in the budget, shall be stated in U.S. dollars. Once an award is made, CDC will not compensate foreign grantees for currency exchange fluctuations through issuance of supplemental awards.

By making this statement all requests, not only the initial budget, but any subsequent request such as re-directions, requests for supplemental funds, carry-overs, etc. are included. This is Health and Human Services (HHS) policy.

2. Funds may be spent for reasonable program purposes, including personnel, travel, supplies, and services. Equipment may be purchased if deemed necessary to accomplish program objectives, however, prior approval by CDC officials must be requested in writing.

3. The costs that are generally allowable in grants to domestic organizations are allowable to foreign institutions and international organizations, with the following exception: With the exception of the American University, Beirut, the Gorgas Memorial Institute, and the World Health Organization, indirect costs will not be paid (either directly or through sub-award) to organizations located outside the territorial limits of the United States or to international organizations regardless of their location.

4. The applicant may contract with other organizations under this program; however, the applicant must perform a substantial portion of the activities (including program management and operations, and delivery of prevention services for which funds are required).

5. Limitations and/or prohibitions on the use of funds are as follows:

a. Alterations and renovations are not allowable.

b. Customs and import duties, including consular fees, customs surtax, value-added taxes and other related charges are not allowable.

6. Awardee is required to obtain annual audit of these CDC funds (program-specific audit) by a U.S. based audit firm with International branches and current licensure/authority in country, and in accordance with International Accounting Standards or equivalent standard(s) or equivalent standard(s) approved in writing by CDC.

7. A fiscal Recipient Capability Assessment may be required, pre or post award, with the potential awardee in order to review their business management and fiscal capabilities regarding the handling of U.S. Federal funds.

Recipient Financial Participation

Matching funds are not required for this program.

Funding Priority

Public comments on the proposed Funding Priority are not being solicited due to insufficient time prior to the funding date.

Funding Preferences

Funding preferences will be given to organizations that can show established relationships with governmental institutions such as Ministries of Health, national disease prevention and control programs, academic institutions and international organizations.

E. Program Requirements

In conducting activities to achieve the purpose of this program, the recipient will be responsible for the activities listed in 1. Recipient Activities, and CDC will be responsible for the activities listed in 2. CDC Activities.

1. Recipient Activities.

a. Coordination, facilitation, and logistic support of periodic meetings of the Regional Technical Committee (RTC) of the Servicio de Investigion Epidemiologica y Vigilancia de Centro America la Republica Dominicana y Haiti (SIEVCADH).

b. Implementation, facilitation, and logistic support of an annual regional scientific conference on public health surveillance and epidemiology as a forum for SIEVCADH trainees and graduates to conduct oral and poster presentations on their studies in epidemiology and public health surveillance. This conference should also include participation from other public health staff involved in epidemiology and surveillance including the public health laboratories, which were supported under the Hurricane Mitch and George Reconstruction Project.

c. Implementation of an external and independent evaluation of the training and service activities of SIEVCADH. This evaluation should be modeled after evaluations done for Field Epidemiology Training Programs and should address the special local circumstances in the SIEVCADH project countries.

d. Coordination and oversight of an emergency epidemiologic response fund for SIEVCADH project countries.

e. Coordination, facilitation, and logistic support of a program of periodic seminars for the presentation and scientific discussion of epidemiologic investigation and surveillance studies in SIEVCADH project countries.

f. Development and oversight of a system of grants to support research in the development and improvement of public health surveillance in SIEVCADH project countries.

2. CDC Activities.

a. Collaboration with the RTC participants in carrying out innovations and modifications of SIEVCADH activities in accordance with agreements reached at the periodic meetings of the RTC.

b. Provision of assistance in the development of criteria for the review and selection of abstracts for the annual regional scientific conference on public health surveillance and epidemiology.

Guidance for potential conference participants in the development of projects in public health surveillance and epidemiologic investigation and in the preparation of abstracts and presentations.

c. Provision of example evaluations and assistance in developing the evaluation framework for training and service activities of SIEVCADH.

d. Technical assistance for investigations funded by the emergency epidemiologic response fund.

e. Assistance in the identification and selection of speakers and appropriate topics for the periodic seminars. Guidance and training of SIEVCADH participants in the preparation of seminars.

f. Provision of assistance in the development of criteria and selection of grants to support research in the development and improvement of public health surveillance in SIEVCADH project countries.

F. Content

Applications

The Program Announcement title and number must appear in the application. Use the information in the Program Requirements, Other Requirements, and Evaluation Criteria sections to develop the application content. Your application will be evaluated on the criteria listed, so it is important to follow them in laying out your program plan. The narrative should be no more than 25 pages, double-spaced, printed on one side, with one-inch margins, and unreduced 12-point font.

The narrative should consist of: Background and Need, Plan and Objectives, Plan of Operations, Evaluation, and Budget. The program Plan should briefly address activities to be conducted over the entire three-year project period.

G. Submission and Deadline

Submit the signed original and two copies of PHS 5161-1 (OMB Number 0920-0428). Forms are available at the following Internet address: www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. eastern time on June 9, 2003. Submit the application to: Technical Information Management—PA 03025, CDC Procurement and Grants Office, 2920 Brandywine Road, Atlanta, GA 30341-4146.

Application may not be submitted electronically.

CDC Acknowledgment of Application Receipt

A postcard will be mailed by PGO-TIM, notifying you that CDC has received your application.

Deadline

Applications shall be considered as meeting the deadline if they are received before 4 p.m. eastern time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application against the following criteria:

1. Plan and Objectives (25 Points).

a. The extent to which the goals relate to the overall vision of capacity building and are specific, time-phased, measurable and feasible.

b. The extent to which the applicant describes objectives that are specific, measurable, and feasible, including a schedule for implementation.

2. Plan of Operation (25 Points).

The extent to which the applicant provides a detailed description of proposed activities which are likely to achieve each objective and overall program goals and which includes designation of responsibility for each action undertaken. The extent to which the applicant provides a reasonable and complete schedule for implementing all activities. The extent to which position descriptions, curriculum vitae's and lines of command are appropriate to accomplishment of program goals and objectives and to which concurrence with the applicant by all other parties involved is specific and documented. The extent to which the proposed activities are capable of achieving the stated program goals and intent of this program announcement.

3. Evaluation (25 Points).

The Quality of the plan for evaluating the proposed program activities. Appropriateness of the methods to be used to monitor the implementation of proposed activities, measure the achievement of project objectives, and evaluate the impact of each project.

4. Experience (15 Points).

The extent to which the applicant has the proven scientific and technical experience to carry out international programs in public health, especially epidemiology and surveillance.

5. Background and Need (10 points).

The extent to which the applicant presents data justifying the need for the program in terms of the magnitude of need for developing inter-country collaboration and cooperation in the development of field epidemiology and surveillance.

6. Budget (reviewed, but not scored).

The extent to which the budget is reasonable, clearly justified, and consistent with the intended use of cooperative agreement funds.

7. Performance Goals (reviewed, but not scored).

The extent to which the measurable outcomes of the program will be in alignment with one or more of the performance goals for the EPO.

I. Other Requirements

Technical Reporting Requirements

Provide CDC with an original plus two copies of

1. Interim progress report, no less than 90 days before the end of the budget period.

2. Financial status report (FSR) no later than 90 days after the end of the budget period.

3. Final FSR and performance reports, no later than 90 days after the end of the project period.

Send all reports to the Grants Management Specialist identified in the “Where to Obtain Additional Information” section of this announcement.

Additional Requirements

The following additional requirements are applicable to this program. For a complete description of each, see Attachment I of the program announcement, as posted on the CDC Web site.

AR-10 Smoke-Free Workplace Requirements

AR-12 Lobbying Restrictions

AR-14 Accounting System Requirements

AR-15 Proof of Non-Profit Status

Executive Order 12372 does not apply to this program.

J. Where To Obtain Additional Information

This and other CDC announcements, the necessary applications, and associated forms can be found on the CDC Web site, Internet address: http://www.cdc.gov. Click on “Funding” then “Grants and Cooperative Agreements”.

For general questions about this announcement, contact: Technical Information Management, CDC Procurement and Grants Office, 2920 Brandywine Road, Atlanta, GA 30341-4146. Telephone: 770-488-2700.

For business management and budget assistance, contact: Tracey Coleman, Contract Specialist, Procurement and Grants Office, Centers for Disease Control and Prevention, 2920 Brandywine Road, Atlanta, GA 30341-4146. Telephone: 770-488-2074. E-mail address: TColeman3@cdc.gov.

For program technical assistance, contact:

Dr. Robert E. Fontaine, Epidemiologist, Epidemiology Program Office, Division of International Health, Centers for Disease Control and Prevention, 4770 Buford Highway, MS K-72, Atlanta, GA 30341. Telephone: 770-488-8329. E-mail address: RFontaine@cdc.gov;

or

Mr. Hoang Dang, Public Health Advisor, Epidemiology Program Office, Division of International Health, Centers for Disease Control and Prevention, 4770 Buford Highway, MS K-72, Atlanta, GA 30341. Telephone: 770-488-8466. E-mail address: HDang@cdc.gov.

Dated: April 17, 2003.
Sandra R. Manning,
Director, Procurement and Grants Office, Centers for Disease Control and Prevention.

[FR Doc. 03-9976 Filed 4-22-03; 8:45 am]

BILLING CODE 4163-18-P